ENVIRONMENTAL PROTECTION AGENCY

[Regional Docket Nos. V-2005-1, -2, -3, and V-2006-2, FRL-8440-1]

Clean Air Act Operating Permit Program; Petitions for Objection to State Operating Permits for Midwest Generation, LCC

AGENCY: Environmental Protection Agency (EPA).

ACTION: Notice of final orders on petitions to object to State operating permits.

SUMMARY: This document announces that the EPA Administrator has responded to four petitions asking EPA to object to six Clean Air Act (CAA) operating permits proposed by the Illinois Environmental Protection Agency (IEPA). Specifically, the Administrator denied the petitions submitted by the Illinois Attorney General, the Chicago Legal Clinic and the Environmental Law and Policy Center to object to the proposed operating permits for all six of the Midwest Generation, LCC stations.

Pursuant to section 505(b)(2) of the CAA, a Petitioner may seek judicial review in the United States Court of Appeals for the appropriate circuit of those portions of the petitions which EPA denied. Any petition for review shall be filed within 60 days from the date this notice appears in the Federal Register, pursuant to section 307 of the CAA.

ADDRESSES: You may review copies of the final orders, the petitions, and other supporting information at the EPA Region 5 Office, 77 West Jackson Boulevard, Chicago, Illinois 60604. If you wish to examine these documents, you should make an appointment at least 24 hours before visiting day. Additionally, the final orders for the Midwest Generation petitions are available electronically at: http://yosemite.epa.gov/r5/ardcorre.nsf/permits.

FOR FURTHER INFORMATION CONTACT: Pamela Blakley, Chief, Air Permits Section, Air Programs Branch, Air and Radiation Division, EPA, Region 5, 77 West Jackson Boulevard, Chicago, Illinois 60604, telephone (312) 886-4447.

SUPPLEMENTARY INFORMATION: The Act affords EPA a 45-day period to review, and object to as appropriate, operating permits proposed by state permitting authorities. Section 505(b)(2) of the Act authorizes any person to petition the EPA Administrator within 60 days after the expiration of the EPA review period to object to state operating permits if EPA has not done so. Petitions must be based only on objections to the permit that were raised with reasonable specificity during the public comment period provided by the state, unless the petitioner demonstrates that it was impracticable to raise these issues during the comment period, or the grounds for the issues arose after this period.

On November 28, 2005 and April 5, 2006, the EPA received four petitions from the Illinois Attorney General, the Chicago Legal Clinic and the Environmental Law and Policy Center requesting that EPA object to the proposed Title V operating permits for the Midwest Generation, LCC stations. The petitions raise issues regarding the lack of compliance schedules in the permits. The petitioners alleged that the proposed permits are legally inadequate because: (1) Self-reporting by Midwest Generation based on continuous opacity monitoring provides evidence that all of the Midwest Generation facilities are in violation of their opacity limitations, yet the permits lack the required compliance schedules; and (2) IEPA failed to require compliance schedules to bring Midwest Generation into compliance with New Source Review requirements.

On June 14, 2007 and June 18, 2007, the Administrator issued orders denying the petitions. The orders explain the reasons behind EPA's conclusion to deny the petitions.

Dated: July 5, 2007.
Bharat Mathur,
Deputy Regional Administrator, Region 5.

[FR Doc. E7-13790 Filed 7-16-07; 8:45 am]

BILLING CODE 6560-50-P